ENVIRONMENTAL PROTECTION AGENCY

[ER-FRL-6614-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Final EISs

ERP No. F-AFS-J65293-MT

Taylor Fork Timber Sale and Road Restoration, Implementation, Buck Creek, Taylor Fork Creek and Eldridge Creek, Gallatin National Forest, Madison Ranger, Hebgen Lake Ranger District, Yellow Stone, Gallatin County, MT.

Summary: EPA expressed environmental concerns about the potential for delivery of sediment to Taylor Creek a 303(d) listed stream, but also indicated that project modifications should substantially mitigate effects. EPA recommended that aquatic effects on the Taylor Fork should be monitored to identify the actual impacts from the implementation activities. EPA believes additional information is needed to fully assess and mitigate all potential impacts of the management actions.

ERP No. F-SFW-K64017-CA

Trinity River Mainstem Fishery Restoration, To Restore and Maintain the Natural Production of Anadromous Fish, Trinity and Humboldt Counties, CA.

Summary: EPA urged approval, funding, and implementation of the Preferred Alternative as soon as possible and the amendment of BOR's existing SWRCB water permit to be consistent with the minimum instream flows, minimum reservoir storage, and TRD operational requirements of this alternative.

ERP No. FB-NPS-K61029-CA

Yosemite Valley Plan, Resource Preservation and Restoration, Visitor Enjoyment, Transportation and Employee Housing, Implementation, Yosemite National Park, Mariposa County, CA.

Summary: EPA reviewed the FSEIS and found that the document adequately addresses the issues raised in our comment letter. Therefore, EPA has no objection to the action as proposed.

Dated: January 2, 2001.
Joseph C. Montgomery,
Director, NEPA Compliance Division, Office of Federal Activities.

[FR Doc. 01-379 Filed 1-4-01; 8:45 am]

BILLING CODE 6560-50-P